DEPARTMENT OF THE TREASURY

Submission for OMB Review; Comment Request

June 22, 2010.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 28, 2010 to be assured of consideration.

Alcohol and Tobacco Tax and Trade Bureau (TTB)

OMB Number: 1513-0124.

Type of Review: Extension without change of a currently approved collection.

Title: Permit Applications, Claims, and EXPO Questionnaires (Generic).

Abstract: In an ongoing effort to improve customer service, TTB surveys its customers and keep track of our progress, as well as identify potential needs, problems, and opportunities for improvement. Also, TTB holds an EXPO every other year where various regulated industry members have the opportunity to meet with TTB and other Federal and State agency representatives. We have developed questionnaires to get feedback to determine what is needed to make each EXPO a success.

Respondents: Private Sector: Businesses or other for-profits.

Estimated Total Burden Hours: 53,000 hours.

Clearance Officer: Gerald Isenberg, Alcohol and Tobacco Tax and Trade Bureau, Room 200 East, 1310 G Street, NW., Washington, DC 20005; (202) 927-9347.

OMB Reviewer: Shagufta Ahmed, Office of Management and Budget, New Executive Office Building, Room 10235, Washington, DC 20503; (202) 395-7873.

Celina M. Elphage,
Treasury PRA Clearance Officer.

[FR Doc. 2010-15531 Filed 6-25-10; 8:45 am]

BILLING CODE 4810-31-P